DEPARTMENT OF TRANSPORTATION

Office of the Secretary

Aviation Proceedings, Agreements Filed the Week Ending March 31, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24303.

Date Filed: March 28, 2006.

Parties: Members of the International Air Transport Association.

Subject:

TC12 North Atlantic-Africa except between USA and Reunion. Memo 0235 dated 23 February 2006.

Minutes: TC12 North/Mid/South Atlantic-Africa. Memo 0240 dated 3 March 2006.

Fares: TC12 North Atlantic-Africa. Specified fare table.

Memo 0112 dated 28 February 2006.

Technical Correction: TC12 North Atlantic-Africa except between USA and Reunion. Memo 0239 dated 3 March 2006.

Intended effective date: 1 May 2006.

Docket Number: OST-2006-24308.

Date Filed: March 28, 2006.

Parties: Members of the International Air Transport Association.

Subject:

TC12 North Atlantic-Africa between USA and Reunion. Memo 0236 dated 23 February 2006.

Minutes: TC12 North/Mid/South Atlantic-Africa. Memo 0240 dated 3 March 2006.

Fares: TC12 North Atlantic-Africa. Specified fare table. Memo 0112 dated 28 February 2006.

Intended effective date: 1 May 2006.

Docket Number: OST-2006-24311.

Date Filed: March 29, 2006.

Parties Members of the International Air Transport Association.

Subject: TC12 Mid Atlantic-Africa. Memo 0237 dated 23 February 2006.

Minutes: TC12 North/Mid/South Atlantic-Africa. Memo 0240 dated 3 March 2006.

Fares: TC12 Mid Atlantic-Africa. Specified fare table. Memo 0111 dated 28 February 2006.

Intended effective date: 1 May 2006.

Docket Number: OST-2006-24312.

Date Filed: March 29, 2006.

Parties: Members of the International Air Transport Association.

Subject:

TC12 South Atlantic-Africa. Memo 0238 dated 23 February 2006.

Minutes: TC12 North/Mid/South Atlantic-Africa. Memo 0240 dated 3 March 2006.

Fares: TC12 South Atlantic-Africa. Specified fare table. Memo 0110 dated 28 February 2006. Intended effective date: 1 May 2006.

Docket Number: OST-2006-24313. Date Filed: March 29, 2006.

Parties: Members of the International Air Transport Association.

Subject:

TC3 South East Asia-South West Pacific between Malaysia and American Samoa. Singapore, 21 November-30 November 2005.

Intended effective date: 1 April 2006 (Memo 0924).

Minutes: TC3 South East Asia-South West Pacific between Malaysia and American Samoa. Singapore, 21 November-30 November 2005 (Memo 0943).

Fares: TC3 South East Asia-South West Pacific between Malaysia and American Samoa. Singapore, 21 November-30 November 2005. Specified fare tables.

Intended effective date: 1 April 2006 (Memo 0383).

Docket Number: OST-2006-24339.

Date Filed: March 30, 2006.

Parties: Members of the International Air Transport Association.

Subject

TC2 Passenger Tariff Coordinating Conferences. TC2 Europe-Africa Resolutions. Memo PTC2 EUR-AFR 0234 dated 24 February 2006.

Minutes: TC2 Within Africa, Europe-Africa, and Middle East-Africa Minutes Memo 0235.

Tables: PTC2 EUR-AFR Fares 0134 dated 27 February 2006.

Technical Correction: TC2 Europe-Africa Resolutions Memo PTC2 EUR-AFR 0236 dated 9 March 2006 Geneva, 20-23 February 2006.

Intended effective date: 1 May 2006.

Docket Number: OST-2006-24341.

Date Filed: March 30, 2006.

Parties: Members of the International Air Transport Association.

Subject

Tables: PTC12 USA-EUR Fares 0104 dated 29 March 2006. Resolution 015h-USA Add-Ons between USA and UK.

Intended effective date: 1 April 2006.

Renee V. Wright,
Program Manager, Docket Operations, Federal Register Liaison.

[FR Doc. E6-6346 Filed 4-26-06; 8:45 am]

BILLING CODE 4910-9X-P